DEPARTMENT OF THE INTERIOR

National Park Service

Notice of Intent to Repatriate Cultural Items: Robert S. Peabody Museum of Archaeology, Phillips Academy, Andover, MA

AGENCY: National Park Service, Interior.

ACTION: Notice.

Notice is here given in accordance with the Native American Graves Protection and Repatriation Act (NAGPRA), 25 U.S.C. 3005, of the intent to repatriate cultural items in the possession of the Robert S. Peabody Museum of Archaeology, Phillips Academy, Andover, MA, that meet the definition of unassociated funerary objects under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The 25 cultural items are 21 copper beads and 2 brass beads strung on cordage, 1 whale bone spoon, and 1 clay pipe fragment.

At an unknown date, a string of 21 copper and 2 brass beads was collected from the Swansea Burial site during excavations undertaken by Maurice Robbins. The site is located in Swansea, Bristol County, MA. In 1941, Mr. Robbins donated the beads to the Robert S. Peabody Museum of Archaeology.

Based on the funerary objects present at the site, the Swansea Burial site is considered to date to the postcontact period (post¯A.D. 1500). Based on geographical, archeological, ethnographic, and historical evidence, a clear relationship of shared group identity can be demonstrated between the Swansea Burial site and the Wampanoag, who are today represented by the Wampanoag Tribe of Gay Head (Aquinnah) of Massachusetts, Mashpee Wampanoag Tribe (a nonfederally recognized Indian group), and Assonet Band of the Wampanoag Nation (a nonfederally recognized Indian group).

In 1955, human remains representing two individuals were removed from the Slocum River site in Dartmouth, Bristol County, MA, by Douglas S. Byers and Frederick Johnson under the auspices of the Robert S. Peabody Museum of Archaeology. The human remains were transferred to the Peabody Museum of Archaeology and Ethnology, Harvard University, Cambridge, MA, in 1956. One whale bone spoon and a clay pipe fragment that were associated with these individuals are in the possession of the Robert S. Peabody Museum of Archaeology.

Based on artifact typology, the Slocum River site is dated to the Late Woodland/Early Contact period (post¯A.D. 1500).

The Peabody Museum of Archaeology and Ethnology included the two individuals from the Slocum River site in a notice of inventory completion published in the Federal Register on August 14, 2003 (FR Doc. 03¯20754, pages 48626¯48634). The human remains were repatriated to the Wampanoag Repatriation Confederation on behalf of the Wampanoag Tribe of Gay Head (Aquinnah) of Massachusetts, Mashpee Wampanoag Tribe (a nonfederally recognized Indian group), and the Assonet Band of the Wampanoag Nation (a nonfederally recognized Indian group) on December 4, 2003.

The material culture of Native American settlements dating from the Middle Woodland period through the Historic period in southeastern Massachusetts in the area between Buzzards Bay and Narragansett Bay, where the Slocum River site and the Swansea Burial site are located, display many similar traits. Cultural continuity is reflected in settlement and subsistence patterns, material culture, and burial practices. While patterns and practices have changed over time, it is clear that the changes occurred within the original culture and were not results of migration of new groups. The Wampanoag people developed out of these earlier cultures. The Wampanoag are today represented by the Wampanoag Tribe of Gay Head (Aquinnah) of Massachusetts, Mashpee Wampanoag Tribe (a nonfederally recognized Indian group), and Assonet Band of the Wampanoag Nation (a nonfederally recognized Indian group).

Officials of the Robert S. Peabody Museum of Archaeology have determined that, pursuant to 25 U.S.C. 3001 (3)(B), the 25 cultural items described above are reasonably believed to have been placed with or near individual human remains at the time of death or later as part of the death rite or ceremony and are believed, by a preponderance of the evidence, to have been removed from a specific burial site of a Native American individual. Officials of the Robert S. Peabody Museum of Archaeology also have determined that, pursuant to 25 U.S.C. 3001 (2), there is a relationship of shared group identity that can be reasonably traced between the unassociated funerary objects and the Wampanoag Tribe of Gay Head (Aquinnah) of Massachusetts, and there is a cultural relationship between the unassociated funerary objects and the Mashpee Wampanoag Tribe (a nonfederally recognized Indian group) and the Assonet Band of the Wampanoag Nation (a nonfederally recognized Indian group).

Representatives of any other Indian tribe that believes itself to be culturally affiliated with the unassociated funerary objects should contact Malinda S. Blustain, Director, Robert S. Peabody Museum of Archaeology, Phillips Academy, Andover, MA 01810, telephone (978) 749-4490, before May 2, 2005. Repatriation of the unassociated funerary objects to the Wampanoag Repatriation Confederation on behalf of the Wampanoag Tribe of Gay Head (Aquinnah) of Massachusetts, Mashpee Wampanoag Tribe (a nonfederally recognized Indian group), and Assonet Band of the Wampanoag Nation (a nonfederally recognized Indian group) may proceed after that date if no additional claimants come forward.

The Robert S. Peabody Museum of Archaeology is responsible for notifying the Wampanoag Repatriation Confederation, Wampanoag Tribe of Gay Head (Aquinnah) of Massachusetts, Mashpee Wampanoag Tribe (a nonfederally recognized Indian group), and Assonet Band of the Wampanoag Nation (a nonfederally recognized Indian group) that this notice has been published.

Dated: February 11, 2005.
Sherry Hutt,
Manager, National NAGPRA Program.

[FR Doc. 05-6466 Filed 3-31-05; 8:45 am]

BILLING CODE 4312-50-S